DEPARTMENT OF THE INTERIOR

National Park Service

Minor Boundary Revision at Lewis and Clark National Historical Park

AGENCY: National Park Service, Interior.

ACTION: Announcement of boundary revision.

SUMMARY: Notice is hereby given that, pursuant to 16 U.S.C. 460l-(9)(c)(1), the boundary of Lewis and Clark National Historical Park is modified to include an additional 106.74+/- acres of land identified as Tract No. 01-104, tax parcel nos: 710160000500 (account nos. 16983 and 16982), 71016AB02800 (account nos. 17134 and 17135), 71016AB02600 (account no. 17131), 71016AB03600 (account no. (17150), 71016AB02700 (account no. 17132), and 71016AB03204 (account no. 17143). The land is located in Clatsop County, Oregon, immediately adjacent to the southern boundary of the Sunset Beach portion of Lewis and Clark National Historical Park. The boundary revision is depicted on Map No. 405/80029, date drawn May 2010. This map is available for inspection at the following locations: National Park Service, Columbia Cascades Land Resources Program Center, 168 South Jackson Street, Seattle, WA 98104 and National Park Service, Department of the Interior, Washington, DC 20240.

FOR FURTHER INFORMATION CONTACT: National Park Service, Chief, Columbia Cascades Land Resources Program Center, 168 South Jackson Street, Seattle, Washington 98104, (206) 220-4100.

DATES: The effective date of this boundary revision is July 21, 2010.

SUPPLEMENTARY INFORMATION: 16 U.S.C. 460l-(9)(c)(1) provides that, after notifying the House Committee on Natural Resources and the Senate Committee on Energy and Natural Resources, the Secretary of the Interior is authorized to make this boundary revision upon publication of notice in the Federal Register. The Committees have been notified of this boundary revision. Inclusion of these lands within the park boundary will enable the landowner to sell the subject land to the National Park Service. The inclusion and acquisition of this property will enable the Service to expand public visitor uses and provide for additional western trailhead opportunities for the park's “Fort to Sea Trail.” Additionally, the boundary revision will provide greater protection of sensitive resources which would be appropriately managed as a part of the national park.

Dated: July 21, 2010.
George Turnbull,
Acting Regional Director, Pacific West Region.

[FR Doc. 2010-17827 Filed 7-20-10; 8:45 am]

BILLING CODE P